DEPARTMENT OF TRANSPORTATION

Federal Aviation Administration

Ninth Meeting: Special Committee 209, ATCRBS/Mode S Transponder MOPS Maintenance

AGENCY: Federal Aviation Administration (FAA), DOT.

ACTION: Notice of RTCA Special Committee 209, EUROCAE WG-49 Joint Plenary Session ATCRBS/Mode S Transponder MOPS Maintenance.

SUMMARY: The FAA is issuing this notice to advise the public of a meeting of RTCA Special Committee 209, ATCRBS/Mode S Transponder MOPS Maintenance.

DATES: The meeting will be held August 20-21, 2008, from 9 a.m.-5 p.m.

ADDRESSES: RTCA Inc., 1828 L Street, NW., Suite 805, Washington, DC 20036.

FOR FURTHER INFORMATION CONTACT: RTCA Secretariat, 1828 L Street, NW., Suite 805, Washington, DC 20036-5133; telephone (202) 833-9339; fax (202) 833-9434; Web site http://www.rtca.org; (2) Secretary Contact: Gary Furr; telephone (609) 485-4254, e-mail gary.ctr.furr@faa.gov.

SUPPLEMENTARY INFORMATION: Pursuant to section 10(a)(2) of the Federal Advisory Committee Act (Pub. L. 92-463, 5 U.S.C., Appendix 2), notice is hereby given for a Special Committee 209 meeting. The agenda will include:

August 20-21:

• Co-Chairs, Welcome, Introductions and Remarks.

• Review and Approval of the Agenda (SC209-WP09-01).

• Review and Approval of the Minutes from SC-209; Plenary Meeting #8 (SC209 WP09-02).

• Closing Plenary Session (Date, Place and Time of Future Meetings, Discussion of Agenda topic for Next Meeting(s), Other Business, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, July 23, 2008.
Francisco Estrada C.,
RTCA Advisory Committee.

[FR Doc. E8-17561 Filed 7-31-08; 8:45 am]

BILLING CODE 4910-13-M